DEPARTMENT OF HEALTH AND HUMAN SERVICES

National Institutes of Health

National Institute of Environmental Health Sciences; Amended Notice of Meeting

Notice is hereby given of a change in the meeting of the national Institute of Environmental Health Sciences Special Emphasis Panel, February 18, 2004, 1 p.m. to February 18, 2004, 4 p.m., NIEHS/National Institutes of Health, Building 4401, East Campus, 79 T.W. Alexander Drive, 122, Research Triangle Park, NC, 27709 which was published in the Federal Register on December 23, 2003, FR 68 74248.

The meeting will be rescheduled to March 9, 2004. Meeting time and location will remain the same. The meeting is closed to the public.

Dated: February 20, 2004.
LaVerne Y. Stringfield,
Director, Office of Federal Advisory Committee Policy.

[FR Doc. 04-4331 Filed 2-26-04; 8:45 am]

BILLING CODE 4140-01-M